FEDERAL HOUSING FINANCE BOARD

[No. 2004-N-08]

Submission for OMB Review; Comment Request

AGENCY: Federal Housing Finance Board.

ACTION: Notice.

SUMMARY: In accordance with the requirements of the Paperwork Reduction Act of 1995, the Federal Housing Finance Board (Finance Board) has submitted the information collection entitled “Affordable Housing Program” to the Office of Management and Budget (OMB) for review and approval of a three-year extension of the OMB control number, which is due to expire on June 30, 2004.

DATES: Interested persons may submit comments on or before June 3, 2004.

ADDRESSES: Submit comments to the Office of Information and Regulatory Affairs of the Office of Management and Budget, Attention: Desk Officer for the Federal Housing Finance Board, Washington, DC 20503.

FOR FURTHER INFORMATION OR COPIES OF THE INFORMATION COLLECTION CONTACT: Charles E. McLean, Jr., Associate Director, Community Investment and Affordable Housing Division, Office of Supervision, by telephone at 202/408-2537 or by electronic mail at mcleanc@fhfb.gov, or Melissa L. Allen, Program Analyst, Community Investment and Affordable Housing Division, Office of Supervision, by telephone at 202/408-2524 or by electronic mail at allenm@fhfb.gov, or by regular mail at the Federal Housing Finance Board, 1777 F Street, NW., Washington, DC 20006.

SUPPLEMENTARY INFORMATION:

A. Need For and Use of Information Collection

Section 10(j) of the Federal Home Loan Bank Act (Bank Act) (12 U.S.C. 1430(j)), requires the Finance Board to promulgate regulations under which the 12 Federal Home Loan Banks (FHLBanks) must establish an Affordable Housing Program (AHP) to make subsidized advances to members engaged in lending for long term, low- and moderate-income, owner-occupied and affordable rental housing at subsidized interest rates. Section 10(j) also establishes the standards and requirements for making subsidized AHP advances to FHLBank members. Part 951 of the Finance Board regulations (12 CFR part 951), implements the statutory requirements and authorizes the FHLBanks to make AHP funding decisions.

The information collection contained in part 951 is necessary to enable and is used by the FHLBanks to determine whether an AHP applicant satisfies the statutory and regulatory requirements to receive subsidized advances or direct subsidies under the AHP. The Finance Board uses the information collection to ensure that FHLBank funding decisions, and the use of the funds awarded, are consistent with statutory and regulatory requirements.

The OMB control number for the information collection is 3069-0006. The OMB clearance for the information collection expires on June 30, 2004.

The likely respondents include applicants for AHP funding.

B. Burden Estimate

The Finance Board has analyzed the cost and hour burden for the seven facets of the information collection—AHP applications, AHP modification requests, monitoring agreements, recapture agreements, homeownership assistance program applications, verifications of statutory and regulatory compliance at the time of subsidy disbursement, and Bank Advisory Council reports and recommendations on AHP Implementation Plans. As explained in more detail below, the estimate for the total annual hour burden for applicant and member respondents is 63,038 hours.

1. AHP Applications

The Finance Board estimates a total annual average of 2,050 applicants for AHP funding, with 1 response per applicant. The estimate for the average hours per application is 25 hours. The estimate for the total annual hour burden for AHP applications is 51,250 hours (2050 applicants × 1 application × 25 hours).

2. AHP Modification Requests

The Finance Board estimates a total annual average of 150 AHP modification requests, with 1 request per respondent. The estimate for the average hours per modification request is 3 hours. The estimate for the total annual hour burden for AHP modification requests is 450 hours (150 respondents × 1 request × 3 hours).

3. AHP Monitoring Agreements

The Finance Board estimates a total annual average of 825 AHP monitoring agreements, with 1 agreement per respondent. The estimate for the average hours to implement each AHP monitoring agreement and prepare and review required reports and certifications is 4.5 hours. The estimate for the total annual hour burden for AHP monitoring agreements is 3,713 hours (825 respondents × 1 agreement × 4.5 hours).

4. AHP Recapture Agreements

The Finance Board estimates a total annual average of 825 AHP recapture agreements, with 1 agreement per respondent. The estimate for the average hours to prepare and implement an AHP recapture agreement is 1 hour. The estimate for the total annual hour burden for AHP recapture agreements is 825 hours (825 respondents × 1 agreement × 1 hour).

5. Homeownership Assistance Program Applications

The Finance Board estimates a total annual average of 2,400 homeownership assistance program applications, with 1 application per respondent. The estimate for the average hours to prepare each homeownership assistance program application and certify compliance upon disbursement of funds is 2 hours. The estimate for the total annual hour burden for homeownership assistance program applications is 4,800 hours (2,400 respondents × 1 application × 2 hours).

6. Verification of Compliance Submissions

The Finance Board estimates a total annual average of 2,000 submissions to verify compliance with statutory and regulatory requirements at the time of AHP subsidy disbursement, with 1 submission per respondent. The estimate for the average hours to prepare and submit a verification of compliance submission is 1 hour. The estimate for the total annual hour burden for verification of compliance submissions is 2,000 hours (2,000 respondents × 1 submission × 1 hours).

7. FHLBank Advisory Council Report and Recommendations on AHP Implementation Plans.

Member and applicant respondents incur no costs because the FHLBank Advisory Councils prepare and the FHLBanks and Finance Board review Advisory Council reports and recommendations.

C. Comment Request

In accordance with the requirements of 5 CFR 1320.8(d), the Finance Board published a request for public comments regarding this information collection in the Federal Register on February 18, 2004. See 69 FR 7639 (Feb. 18, 2004). The 60-day comment period closed on April 19, 2004. The Finance Board received no public comments.

Written comments are requested on: (1) Whether the collection of information is necessary for the proper performance of Finance Board functions, including whether the information has practical utility; (2) the accuracy of the Finance Board's estimates of the burdens of the collection of information; (3) ways to enhance the quality, utility and clarity of the information collected; and (4) ways to minimize the burden of the collection of information on respondents, including through the use of automated collection techniques or other forms of information technology. Comments may be submitted to OMB in writing at the address listed above.

Dated: April 28, 2004.
By the Federal Housing Finance Board.
Donald Demitros,
Chief Information Officer.

[FR Doc. 04-10076 Filed 5-3-04; 8:45 am]

BILLING CODE 6725-01-P